DEPARTMENT OF TRANSPORTATION

Federal Aviation Administration

14 CFR Part 71

[Docket No. FAA-2008-1084; Airspace Docket No. 08-ASO-17]

Establishment of Class E Airspace; Dallas, GA

AGENCY: Federal Aviation Administration (FAA), DOT.

ACTION: Final rule; confirmation of effective date, technical amendment.

SUMMARY: This action confirms the effective date of the direct final rule that establishes controlled airspace at Dallas, GA, published in the Federal Register on October 22, 2008, (73 FR 62876). This action also changes the airport name from Paulding County Airport to Paulding County Regional Airport.

DATES: Effective Date: 0901 UTC, April 20, 2009. The Director of the Federal Register approves this incorporation by reference action under Title 1, Code of Federal Regulations, part 51, subject to the annual revision of FAA Order 7400.9 and publication of conforming amendments.

FOR FURTHER INFORMATION CONTACT: Melinda Giddens, Operations Support Group, Eastern Service Center, Federal Aviation Administration, P.O. Box 20636, Atlanta, Georgia 30320; telephone (404) 305-5610.

SUPPLEMENTARY INFORMATION:

Correction to Final Rule

After publication, it was observed that the airport name was incomplete. Therefore, in the Federal Register Docket No. FAA-2008-1084; Airspace Docket No. 08-ASO-17, published October 22, 2008, (73 FR 62876) make the following change: On page 62876, in the third column, under “Summary”, and on page 62877, in the second column, under “History and The Rule”, and on page 62878, in the first column, under “ASO GA E Dallas, GA [New]”, correct the airport name to read “Paulding County Regional Airport”.

Confirmation of Effective Date

The FAA published this direct final rule with a request for comments in the Federal Register on October 22, 2008, (73 FR 62876), establishing Class E airspace to support Area Navigation (RNAV) Global Positioning System (GPS) Standard Instrument Approach Procedures (SIAPS) developed for Paulding County Regional Airport. The FAA uses the direct final rulemaking procedure for a non-controversial rule where the FAA believes that there will be no adverse public comment. This direct final rule advised the public that no adverse comments were anticipated, and that unless a written adverse comment or a written notice of intent to submit such an adverse comment were received within the comment period, the regulation would become effective on January 15, 2009. No adverse comments were received, and thus this notice confirms that effective date.

* * * * *

Issued in College Park, GA, on April 2, 2009.
Myron A. Jenkins,
Acting Manager, Operations Support Group, Eastern Service Center, Air Traffic Organization.

[FR Doc. E9-8846 Filed 4-17-09; 8:45 am]

BILLING CODE 4910-13-P